Title 3—

The President

Executive Order 13277 of November 19, 2002

Delegation of Certain Authorities and Assignment of Certain Functions Under the Trade Act of 2002

By the authority vested in me as President by the Constitution and the laws of the United States, including the Trade Act of 2002 (the “Act”) (Public Law 107-210) and section 301 of title 3, United States Code, it is hereby ordered as follows:

Section 1. Trade Promotion. (a) Except as provided in subsections (b) and (c) of this section, the authorities granted to and functions specifically assigned to the President under Division B of the Act are delegated and assigned, respectively, to the United States Trade Representative (U.S. Trade Representative).

(b) The exercise of the following authorities of, and functions specifically assigned to the President, under Division B of the Act are reserved to the President:

(1) Section 2102(c)(1), (c)(6), (c)(10) and (e) of the Act;

(2) Section 2103(a)(1), (a)(4), (a)(6), b(1), (c)(1)(B)(i), and (c)(2) of the Act;

(3) Section 2105(a)(1) of the Act; and

(4) Section 2108(b) of the Act.

(c) (i) The Secretary of State, in consultation with the Secretary of Labor and the U.S. Trade Representative, shall carry out the functions of section 2102(c)(2) of the Act with respect to establishing consultative mechanisms. The U.S. Trade Representative, in consultation with the Secretary of State and the Secretary of Labor, shall carry out the reporting function under section 2102(c)(2).

(ii) The Secretary of State, in consultation with the U.S. Trade Representative, shall carry out the functions under section 2102(c)(3) of the Act with respect to establishing consultative mechanisms, with the advice and assistance of the Secretary of the Interior, the Secretary of Health and Human Services, the Administrator of the Environmental Protection Agency, the Secretary of Commerce and, as the Secretary of State determines appropriate, the heads of such other departments and agencies. The U.S. Trade Representative, in consultation with the Secretary of State, shall carry out the reporting function under section 2103(c)(3).

(iii) The U.S. Trade Representative shall carry out the functions under section 2102(c)(5) of the Act. The U.S. Trade Representative shall, in consultation with the Secretary of Labor, carry out the reporting function and the function of making a report available under section 2102(c)(5).

(iv) The Secretary of Labor shall carry out section 2102(c)(7) of the Act, in consultation with the Secretary of State.

(v) The Secretary of Labor, in consultation with the Secretary of State and the U.S. Trade Representative, shall carry out the functions under section 2102(c)(8) and (c)(9).

(vi) The Secretary of the Treasury shall carry out section 2102(c)(12) of the Act, including any appropriate consultations with the Congress relating thereto.

Sec. 2. Andean Trade. (a) Except as provided in subsection (b) of this section, the authorities granted and the functions specifically assigned to the President under Division C of the Act are delegated and assigned respectively, to the U.S. Trade Representative, in consultation with the Secretaries of State, Commerce, the Treasury, and Labor.

(b) The exercise of the following authorities of, and functions specifically assigned to, the President under Division C of the Act are reserved to the President:

(i) The authority to proclaim under sections 204(b)(1) and 204(b)(3)(B)(ii), and the authority to designate beneficiary countries under section 204(b)(6)(B), of the Andean Trade Preference Act as amended by section 3103(a)(2) of the Act; and

(ii) The authority to make determinations under section 203(e)(1)(B) of the Andean Trade Preference Act as amended by section 3103(b) of the Act.

(c) The head of the executive department of which the United States Customs Service is a part shall take such actions to carry out determinations and actions pursuant to the Andean Trade Preference Act, as amended, as directed pursuant to the authority delegated to the U.S. Trade Representative under this order.

Sec. 3. Guidance for Exercising Authority and Performing Duties. (a) Nothing in this order shall be construed to impair or otherwise affect the functions of the Director of the Office of Management and Budget relating to budget, administrative, or legislative proposals.

(b) In exercising authority delegated by, or performing functions assigned in, this order, and in performing duties related to the trade agreements program as defined in Executive Order 11846, officers of the United States:

(i) Shall ensure that all actions taken by them are consistent with the President's constitutional authority to (A) conduct the foreign affairs of the United States, including the commencement, conduct, and termination of negotiations with foreign countries and international organizations, (B) withhold information the disclosure of which could impair the foreign relations, the national security, the deliberative processes of the Executive, or the performance of the Executive's constitutional duties, (C) recommend for congressional consideration such measures as the President may judge necessary or expedient, and (D) supervise the unitary executive branch;

(ii) May redelegate authority delegated by this order and may further assign functions assigned by this order to officers of any other department or agency within the executive branch to the extent permitted by law and such redelegation or further assignment shall be published in the Federal Register; and

(iii) Shall consult the Attorney General as appropriate in implementing this subsection.

Sec. 4. Amendment to Executive Order 11846. Section 1 of Executive Order 11846 of March 27, 1975, as amended, is further amended by inserting “, Divisions B and C of the Trade Act of 2002,” after “Trade Expansion Act of 1962, as amended”.

Sec. 5. Judicial Review. This order is intended only to improve the internal management of the Federal Government and is not intended to, and does not, create any right or benefit, substantive or procedural, enforceable at law or equity by a party against the United States, its departments, agencies, instrumentalities or entities, its officers or employees, or any other person.

B

THE WHITE HOUSE,

November 19, 2002.

[FR Doc. 02-29832

Filed 11-20-02; 8:50 am]

Billing code 3195-01-P